COMMISSION ON CIVIL RIGHTS

Agenda and Notice of Public Meeting of the New Mexico Advisory Committee

Notice is hereby given, pursuant to the provisions of the rules and regulations of the U.S. Commission on Civil Rights, that a meeting of the New Mexico Advisory Committee to the Commission will convene at 1:30 p.m. and adjourn at 4 p.m. on Friday, November 30, 2001, at the Albuquerque Marriott, 2101 Louisiana Boulevard NE, Albuquerque, New Mexico 87110. The purpose of the meeting is to discuss civil rights issues in New Mexico and plan future activities.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, October 29, 2001.
Ivy L. Davis,
Chief, Regional Programs Coordination Unit.

[FR Doc. 01-27556 Filed 11-1-01; 8:45 am]

BILLING CODE 6335-01-P